DEPARTMENT OF ENERGY

Federal Energy Regulatory Commission

Combined Notice of Filings

Take notice that the Commission has received the following Natural Gas Pipeline Rate and Refund Report filings:

Filings Instituting Proceedings

Docket Numbers: RP14-262-000.

Applicants: Dominion Transmission, Inc.

Description: DTI-RP14-262 Refund Report.

Filed Date: 4/1/14.

Accession Number: 20140401-5213.

Comments Due: 5 p.m. ET 4/14/14.

Docket Numbers: RP14-707-000.

Applicants: Hardy Storage Company, LLC.

Description: RAM 2014 to be effective 5/1/2014.

Filed Date: 4/1/14.

Accession Number: 20140401-5147.

Comments Due: 5 p.m. ET 4/14/14.

Docket Numbers: RP14-708-000.

Applicants: Gulf South Pipeline Company, LP.

Description: Amendment to Neg Rate Agmt (Entergy New Orleans 35223-1) to be effective 4/1/2014.

Filed Date: 4/1/14.

Accession Number: 20140401-5149.

Comments Due: 5 p.m. ET 4/14/14.

Docket Numbers: RP14-709-000.

Applicants: Gulf Crossing Pipeline Company LLC.

Description: Amendment to Neg Rate Agmt (BP 37-15) to be effective 4/5/2014.

Filed Date: 4/1/14.

Accession Number: 20140401-5150.

Comments Due: 5 p.m. ET 4/14/14.

Docket Numbers: RP14-710-000.

Applicants: Northern Natural Gas Company.

Description: 20140401 Combine Market Based Rate Agreements to be effective 6/1/2014.

Filed Date: 4/1/14.

Accession Number: 20140401-5300.

Comments Due: 5 p.m. ET 4/14/14.

Docket Numbers: RP14-711-000.

Applicants: Iroquois Gas Transmission System, L.P.

Description: 04/01/14 Negotiated Rates—ConEdison Energy Inc. (HUB) 2275-89 to be effective 3/31/2014.

Filed Date: 4/1/14.

Accession Number: 20140401-5309.

Comments Due: 5 p.m. ET 4/14/14.

Docket Numbers: RP14-712-000.

Applicants: Columbia Gas Transmission, LLC.

Description: OTRA—Summer 2014 to be effective 5/1/2014.

Filed Date: 4/1/14.

Accession Number: 20140401-5321.

Comments Due: 5 p.m. ET 4/14/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 2, 2014.
Nathaniel J. Davis, Sr.,
Deputy Secretary.

[FR Doc. 2014-08028 Filed 4-9-14; 8:45 am]

BILLING CODE 6717-01-P